GENERAL SERVICES ADMINISTRATION

[PBS-N01]

Notice of Intent to Prepare an Environmental Impact Statement for the Construction of a New Border Station Facility on 1-91 at Derby Line, Vermont

AGENCY: Public Buildings Service, GSA.

ACTION: Notice of Intent.

SUMMARY: The General Services Administration (GSA) announces its intent to prepare an Environmental Impact Statement (EIS) under the National Environmental Policy Act (NEPA) of 1969 to assess the potential impacts of the construction of a New Border Station Facility on Interstate 91 in Derby Line, Vermont (the “Proposed Action”).

At the request of the US Customs and Border Protection, the GSA is proposing to construct a new border station facility on Interstate Highway 91 at Derby Line, Vermont. The existing facilities are undersized and obsolete, and consequently incapable of providing the level of security now required.

The Proposed Action has been defined and will likely include: (a) identification of land requirements, including acquisition of adjoining land if appropriate; (b) demolition of all existing government structures at the border station; (c) construction of a main administration building and ancillary support buildings; and (d) relocation a portion of the I-91 roadway and interchange and consequent potential alterations to secondary roads.

The location of the new border station facility is set by the requirement that the facility be located at the intersection of the interstate highway and the U. S. Border. Therefore, alternatives to be studied will identify alternative locations for the components of the border station including the main administration and ancillary support buildings, the roadway and interchange. A No Action alternative will also be studied that will evaluate the consequences of not constructing the new border station facility. This alternative is included to provide a basis for comparison to the action alternatives described above as required by NEPA regulations (40 CFR 1002.14(d)).

GSA invites individuals, organizations and agencies to submit comments concerning the scope of the EIS.

The public scoping period starts with the publication of this notice in the Federal Register and will continue for forty five (45) days from the date of this notice. GSA will consider all comments received or postmarked by that date in defining the scope of the EIS.

GSA expects to issue a Draft EIS in summer 2005 at which time its availability will be announced in the Federal Register and local media. A public comment period will commence upon publication of the Notice of Availability. The GSA will consider and respond to comments received on the Draft EIS in preparing the Final EIS.

ADDRESSES: Written comments or suggestions concerning the scope of the EIS should be sent to David M. Drevinsky P.E., PMP, Regional Environmental Quality Advocate (REQA), U.S. General Services Administration, 10 Causeway Street, Room 975, Boston, MA 02222; Fax (617) 565-5967.

FOR FURTHER INFORMATION CONTACT: David M. Drevinsky by phone at (617) 565-6596 or by email at dave.drevinsky@gsa.gov.

SUPPLEMENTARY INFORMATION:

Other Agency Involvement:

The GSA anticipates that the Federal Highway Administration will be a cooperating agency in the preparation of the EIS because the proposed action affects the Federal Highway System. The GSA will consult with the Vermont Agency of Transportation regarding regulatory issues pertaining to the Proposed Action.

Public Scoping Meetings:

A public scoping meeting will provide the public with an opportunity to present comments, ask questions, and discuss concerns regarding the scope of the EIS for the Proposed Action with GSA representatives. GSA will hold a public scoping meeting in April 2005 at Derby Line, Vermont. Once established, the specific date for this meeting will be published in the Federal Register and the local media.

Date: March 14, 2005
Dennis R. Smith
Regional Administrator,New England Region

[FR Doc. 05-5452 Filed 3-18-05; 8:45 am]

BILLING CODE 6820-23-S